DEPARTMENT OF TRANSPORTATION

Federal Aviation Administration

Public Meeting With Interested Persons To Discuss the Proposed Federal Aviation Administration Policy (Draft Order 8110.RC) for the Certification of Restricted Category Aircraft

AGENCY: Federal Aviation Administration (DOT).

ACTION: Notice of public meeting.

SUMMARY: The FAA will hold three informational meetings to discuss the proposed policy (Draft Order 8110.RC) that the FAA's Aircraft Certification Service personnel, Flight Standards Service Personnel, persons designated by the Administrator, and organizations associated with the certification process required by Title 14 of the Code of Federal Regulations (14 CFR) will use during the certification evaluation of restricted category aircraft. These public meetings will be a continuation of information gathering for the evaluation of Restricted Category Aircraft Applications originally offered to the public for comments in the Federal Register, dated October 8, 2004, Page 60454 (Volume 69, Number 195). This meeting, the third and final public meeting will be held at the Federal Aviation Administration's (FAA) Orlando Florida's Flight Standards District Office, located at 5950 Hazeltine National Drive, Suite 500, Orlando, Florida. To obtain additional information and details about this meeting, please contact Mr. Graham Long via the information listed in the paragraph titled FOR FURTHER INFORMATION CONTACT. Notes from this informational meeting will be posted on the Internet at: http://www.faa.gov/Certification/Aircraft/DraftDoc/Comments.htm.

DATES: This meeting will be held on Thursday, April 7, 2005, from 9 a.m. to 12 noon.

ADDRESSES: This third meeting will be held at the FAA's Orlando Flight Standards District Office, Suite 500, 5950 Hazeltine National Drive, Orlando, FL 32822.

FOR FURTHER INFORMATION CONTACT: To obtain additional details on this and the two previous meetings, please contact Mr. Graham Long, AIR-110, Room 815, Federal Aviation Administration, Aircraft Certification Service, Aircraft Engineering Division, 800 Independence Avenue, SW., Washington, DC 20591, Telephone (202) 267-3715, FAX: (202) 237-5340, or e-mail: 9-awa-air110-gn12@faa.gov.

Issued in Washington, DC, on March 11, 2005.
Susan J.M. Cabler,
Assistant Manager, Aircraft Engineering Division, Aircraft Certification Service.

[FR Doc. 05-5339 Filed 3-17-05; 8:45 am]

BILLING CODE 4910-13-M